DEPARTMENT OF TRANSPORTATION

Federal Aviation Administration

14 CFR Part 23

[Docket No. CE159; Special Conditions No. 23-103-SC]

Special Conditions: Cessna Models; Diamond Model; Mooney Models; Piper Models; Raytheon Models; Airplanes Modified by Installation of Teledyne Continental Motors Full Authority Digital Engine Control (FADEC) System

AGENCY: Federal Aviation Administration (FAA), DOT.

ACTION: Final special conditions.

SUMMARY: These special conditions are issued for the Cessna Models 172/K/L/M/N/P, 177/A/B/RG, 180/E/F/G/H/J/K, 182/E/F/G/H/J/K/L/M/N/P/Q/R, 185/A/C/D/E/F, 188/A/B/C, P206/A/B/C/D/E, U206/A/B/C/D/E/F/G, TU206/A/B/C/D/E/F/G, TP206/A/B/C/D/E, 207/A, T207/A, 210/K/L/M/N/R, T210/K/L/M/N/R, 310/A/B/C/D/E/F/G/H/I/J/J-1/K/L/N/P/Q/R, 320/A/B/C/D/E/F/-1, 337/A/B/C/D/E/F/G/H, 340/A, 401/A/B, 411/A, 414/A, 421/A/B/C; Diamond Model DA20-C1; Mooney Models M20/C/D/E/F/J/K/R; Piper Models PA-28-180/-201T, PA-28R-201T, PA-28RT-201T, PA-34-200/-200T/-220T, PA-46-310P/-350P; and Raytheon Models F33, V35, A36, 95-C55, D55, E55, 58, 58P airplanes. These airplanes as modified by Teledyne Continental Motors will have a novel or unusual design feature associated with the installation of an engine that uses an electronic engine control system in place of the engine's mechanical system. The applicable airworthiness regulations do not contain adequate or appropriate safety standards for this design feature. These special conditions contain the additional safety standards that the Administrator considers necessary to establish a level of safety equivalent to that established by the existing airworthiness standards.

EFFECTIVE DATE: July 13, 2000.

FOR FURTHER INFORMATION CONTACT: Randy Griffith, Aerospace Engineer, Federal Aviation Administration, Aircraft Certification Service, Small Airplane Directorate, ACE-111, 901 Locust, Kansas City, Missouri 64106; 816-329-4126, fax 816-329-4090.

SUPPLEMENTARY INFORMATION:

Background

On January 7, 2000, Teledyne Continental Motors applied for supplemental type certificates for the installation of engines that use an electronic engine control system in place of the hydromechanical control system for the Cessna Models 172/K/L/M/N/P, 177/A/B/RG, 180/E/F/G/H/J/K, 182/E/F/G/H/J/K/L/M/N/P/Q/R, 185/A/C/D/E/F, 188/A/B/C, P206/A/B/C/D/E, U206/A/B/C/D/E/F/G, TU206/A/B/C/D/E/F/G, TP206/A/B/C/D/E, 207/A, T207/A, 210/K/L/M/N/R, T210/K/L/M/N/R, 310/A/B/C/D/E/F/G/H/I/J/J-1/K/L/N/P/Q/R,320/A/B/C/D/E/F/-1, 337/A/B/C/D/E/F/G/H, 340/A, 401/A/B, 411/A, 414/A, 421/A/B/C; Diamond Model DA20-C1; Mooney Models M20/C/D/E/F/J/K/R; Piper Models PA-28-180/-201T, PA-28R-201T, PA-28RT-201T, PA-34-200/-200T/-220T, PA-46-310P/-350P; and Raytheon Models F33, V35, A36, 95-C55, D55, E55, 58, 58P airplanes. Affected airplane models are currently approved under the following Type Certificate Numbers:

Model | Type certificate No.
Cessna Models 172/K/L/M/N/P | 3A12
Cessna Models 177/A/B | A13CE
Cessna Model 177RG | A20CE
Cessna Models 180/E/F/G/H/J/K | 5A6
Cessna Models 182/E/F/G/H/J/K/L/M/N/P/Q/R | 3A13
Cessna Models 185/A/C/D/E/F | 3A24
Cessna Models 188/A/B/C | A9CE
Cessna Models P206/A/B/C/D/E, U206A/B/C/D/E/F/G, TU206/A/B/C/D/E/F/G, TP206/A/B/C/D/E | A4CE
Cessna Models 207/A, T207/A | A16CE
Cessna Models 210/K/L/M/N/R, T210/K/L/M/N/R | 3A21
Cessna Model 310/A/B/C/D/E/F/G/H/I/J/J-1/K/L/N/P/Q/R | 3A10
Cessna Models 320/A/B/C/D/E/F/-1, 340/A | 3A25
Cessna Model 337/A/B/C/D/E/F/G/H | A6CE
Cessna Models 401/A/B, 411/A, 414/A, 421/A/B/C | A7CE
Diamond Model DA20-C1 | TA4CH
Mooney Models M20/C/D/E/F/J/K/R | 2A3
Piper Models PA-28-180/-201T, PA-28R-201T, PA-28RT-201T | 2A13
Piper Model PA-34-200/-200T/-220T | A7SO
Piper Model PA-46-310P/-350P | A25SO
Raytheon Models F33, V35, A36 | 3A15
Raytheon Models 58, 95-C55, D55, E55 | 3A16
Raytheon Model 58P | A23CE

All the airplanes are small, normal category airplanes powered with either single or dual reciprocating engines. The modification to the airplanes involves replacement of the engine with a new engine model that incorporates an electronic engine control system with full engine authority capability. The new engine model is accomplished with either an amended type certificate to the engine if the engine is a Teledyne Continental engine or a supplemental type certificate to the engine if the engine is a Lycoming engine. The airframe systems will also be modified as necessary to accommodate the engine's new control system.

Type Certification Basis

Under the provisions of § 21.101, Teledyne Continental Motors must show that affected airplane models, as changed, continue to meet the applicable provisions of the regulations incorporated by reference in Type Certificate Numbers 3A12, A13CE, A20CE, 5A6, 3A13, 3A24, A9CE, A4CE, A16CE, 3A21, 3A10, 3A25, A6CE, A7CE, TA4CH, 2A3, 2A13, A7SO, A25SO, 3A15, 3A16, A23CE or the applicable regulations in effect on the date of application for the change. The regulations incorporated by reference in the type certificate are commonly referred to as the “original type certification basis” and can be found in the Type Certificates.

If the Administrator finds that the applicable airworthiness regulations (14 CFR part 23) do not contain adequate or appropriate safety standards for affected airplane models because of a novel or unusual design feature, special conditions are prescribed under the provisions of § 21.16.

Special conditions, as appropriate, are issued in accordance with § 11.49 after public notice, as required by §§ 11.28 and 11.29(b), and become part of the type certification basis in accordance with § 21.101(b)(2).

Special conditions are initially applicable to the model for which they are issued. Should the applicant apply for a supplemental type certificate to modify any other model included on the same type certificate to incorporate the same novel or unusual design feature, the special conditions would also apply to the other model under the provisions of § 21.101(a)(1).

Novel or Unusual Design Features

The Cessna Models 172/K/L/M/N/P, 177/A/B/RG, 180/E/F/G/H/J/K, 182/E/F/G/H/J/K/L/M/N/P/Q/R, 185/A/C/D/E/F, 188/A/B/C, P206/A/B/C/D/E, U206/A/B/C/D/E/F/G, TU206/A/B/C/D/E/F/G, TP206/A/B/C/D/E, 207/A, T207/A, 210/K/L/M/N/R, T210/K/L/M/N/R, 310/A/B/C/D/E/F/G/H/I/J/J-1/K/L/N/P/Q/R, 320/A/B/C/D/E/F/-1, 337/A/B/C/D/E/F/G/H, 340/A, 401/A/B, 411/A, 414/A, 421/A/B/C; Diamond Model DA20-C1; Mooney Models M20/C/D/E/F/J/K/R; Piper Models PA-28-180/-201T, PA-28R-201T, PA-28RT-201T, PA-34-200/-200T/-220T, PA-46-310P/-350P; and Raytheon Models F33, V35, A36, 95-C55, D55, E55, 58, 58P airplanes will incorporate an engine that includes an electronic control system with full engine authority capability. The airframe systems will also be modified as necessary to accommodate the engine's new control system.

Many advanced electronic systems are prone to either upsets or damage, or both, at energy levels lower than analog systems. The increasing use of high power radio frequency emitters mandates requirements for improved high intensity radiated fields (HIRF) protection for electrical and electronic equipment. Since the electronic engine control system developed by Teledyne Continental Motors will perform functions in which a failure may cause an unsafe condition, provisions for protection from the effects of HIRF fields should be considered and, if necessary, incorporated into the airplane design data. The FAA policy contained in Notice 8110.71, dated April 2, 1998, establishes the HIRF energy levels that airplanes will be exposed to in service. The guidelines set forth in this Notice are the result of an Aircraft Certification Service review of existing policy on HIRF, in light of the ongoing work of the ARAC Electromagnetic Effects Harmonization Working Group (EEHWG). The EEHWG adopted a set of HIRF environment levels in November 1997 that were agreed upon by the FAA, JAA, and industry participants. As a result, the HIRF environments in this notice reflect the environment levels recommended by this working group. This notice states that a full authority digital engine control is an example of a system that should address the HIRF environments.

Even though each control system will be certificated as part of the engine, the installation of an engine with an electronic control system requires evaluation due to the possible effects on or by other airplane systems (for example, radio interference with other airplane electronic systems, shared engine and airplane power sources). The regulatory requirements in 14 CFR part 23 for evaluating the installation of complex systems, including electronic systems, are contained in § 23.1309. However, when § 23.1309 was developed, the use of electronic control systems for engines was not envisioned; therefore, the § 23.1309 requirements were not applicable to systems certificated as part of the engine (reference § 23.1309(f)(1)). Also, electronic control systems often require inputs from airplane data and power sources and outputs to other airplane systems (e.g., automated cockpit powerplant controls such as mixture setting) Although the parts of the system that are not certificated with the engine could be evaluated using the criteria of § 23.1309, the integral nature of systems such as these makes it unfeasible to evaluate the airplane portion of the system without including the engine portion of the system. However, § 23.1309(f)(1) again prevents complete evaluation of the installed airplane system since evaluation of the engine system's effects is not required.

Therefore, special conditions are proposed for the Cessna Models 172/K/L/M/N/P, 177/A/B/RG, 180/E/F/G/H/J/K, 182/E/F/G/H/J/K/L/M/N/P/Q/R, 185/A/C/D/E/F, 188/A/B/C, P206/A/B/C/D/E, U206/A/B/C/D/E/F/G, TU206/A/B/C/D/E/F/G, TP206/A/B/C/D/E, 207/A, T207/A, 210/K/L/M/N/R, T210/K/L/M/N/R, 310/A/B/C/D/E/F/G/H/I/J/J-1/K/L/N/P/Q/R, 320/A/B/C/D/E/F/-1, 337/A/B/C/D/E/F/G/H, 340/A, 401/A/B, 411/A, 414/A, 421/A/B/C; Diamond Model DA20-C1; Mooney Models M20/C/D/E/F/J/K/R; Piper Models PA-28-180/-201T, PA-28R-201T, PA-28RT-201T, PA-34-200/-200T/-220T, PA-46-310P/-350P; and Raytheon Models F33, V35, A36, 95-C55, D55, E55, 58, 58P airplanes modified by Teledyne Continental Motors by installation of an electronic engine control system to provide HIRF protection and to evaluate the installation of the electronic engine control system for compliance with the requirements of § 23.1309(a) through (e) at Amendment 23-41.

Discussion of Comments

On April 4, 2000 (65 FR 17613), the FAA published notice of proposed special conditions No. 23-00-01-SC for Cessna Models 172/K/L/M/N/P, 177/A/B/RG, 180/E/F/G/H/J/K, 182/E/F/G/H/J/K/L/M/N/P/Q/R, 185/A/C/D/E/F, 188/A/B/C, P206/A/B/C/D/E, U206/A/B/C/D/E/F/G, TU206/A/B/C/D/E/F/G, TP206/A/B/C/D/E, 207/A, T207/A, 210/K/L/M/N/R, T210/K/L/M/N/R, 310/A/B/C/D/E/F/G/H/I/J/J-1/K/L/N/P/Q/R, 320/A/B/C/D/E/F/-1, 337/A/B/C/D/E/F/G/H, 340/A, 401/A/B, 411/A, 414/A, 421/A/B/C; Diamond Model DA20-C1; Mooney Models M20/C/D/E/F/J/K/R; Piper Models PA-28-180/-201T, PA-28R-201T, PA-28RT-201T, PA-34-200/-200T/-220T, PA-46-310P/-350P; and Raytheon Models F33, V35, A36, 95-C55, D55, E55, 58, 58P airplanes. No comments were received, and the special conditions are adopted as proposed.

Applicability

As discussed above, these special conditions are applicable to the Cessna Models 172/K/L/M/N/P, 177/A/B/RG, 180/E/F/G/H/J/K, 182/E/F/G/H/J/K/L/M/N/P/Q/R, 185/A/C/D/E/F, 188/A/B/C, P206/A/B/C/D/E, U206/A/B/C/D/E/F/G, TU206/A/B/C/D/E/F/G, TP206/A/B/C/D/E, 207/A, T207/A, 210/K/L/M/N/R, T210/K/L/M/N/R, 310/A/B/C/D/E/F/G/H/I/J/J-1/K/L/N/P/Q/R, 320/A/B/C/D/E/F/-1, 337/A/B/C/D/E/F/G/H, 340/A, 401/A/B, 411/A, 414/A, 421/A/B/C; Diamond Model DA20-C1; Mooney Models M20/C/D/E/F/J/K/R; Piper Models PA-28-180/-201T, PA-28R-201T, PA-28RT-201T, PA-34-200/-200T/-220T, PA-46-310P/-350P; and Raytheon Models F33, V35, A36, 95-C55, D55, E55, 58, 58P airplanes as modified by Teledyne Continental Motors. Should Teledyne Continental Motors apply at a later date for a supplemental type certificate to modify any other model included on Type Certificate Numbers 3A12, A13CE, A20CE, 5A6, 3A13, 3A24, A9CE, A4CE, A16CE, 3A21, 3A10, 3A25, A6CE, A7CE, TA4CH, 2A3, 2A13, A7SO, A25SO, 3A15, 3A16, A23CE to incorporate the same novel or unusual design feature, the special conditions would apply to that model as well under the provisions of § 21.101(a)(1).

Conclusion

This action affects only certain novel or unusual design features on Cessna Models 172/K/L/M/N/P, 177/A/B/RG, 180/E/F/G/H/J/K, 182/E/F/G/H/J/K/L/M/N/P/Q/R, 185/A/C/D/E/F, 188/A/B/C, P206/A/B/C/D/E, U206/A/B/C/D/E/F/G, TU206/A/B/C/D/E/F/G, TP206/A/B/C/D/E, 207/A, T207/A, 210/K/L/M/N/R, T210/K/L/M/N/R, 310/A/B/C/D/E/F/G/H/I/J/J-1/K/L/N/P/Q/R, 320/A/B/C/D/E/F/-1, 337/A/B/C/D/E/F/G/H, 340/A, 401/A/B, 411/A, 414/A, 421/A/B/C; Diamond Model DA20-C1; Mooney Models M20/C/D/E/F/J/K/R; Piper Models PA-28-180/-201T, PA-28R-201T, PA-28RT-201T, PA-34-200/-200T/-220T, PA-46-310P/-350P; and Raytheon Models F33, V35, A36, 95-C55, D55, E55, 58, 58P airplanes. It is not a rule of general applicability. It is only applicable to airplanes being modified by Teledyne Continental Motors to include this engine system.

List of Subjects in 14 CFR Part 23

Aircraft, Aviation safety, Signs and symbols.

Citation

The authority citation for these special conditions is as follows:

Authority: 49 U.S.C. 106(g), 40113 and 44701; 14 CFR 21.16 and 21.101; and 14 CFR 11.28 and 49.

The Special Conditions

1. High Intensity Radiated Fields (HIRF), Protection. In showing compliance with 14 CFR part 21 and the airworthiness requirements of 14 CFR part 23, protection against hazards caused by exposure to HIRF fields for the full authority digital engine control system, which performs functions in which a failure may cause an unsafe condition to the airplane, must be considered. To prevent this occurrence, the electronic engine control system must be designed and installed to ensure that the operation and operational capabilities of this critical system are not adversely affected when the airplane is exposed to high energy radio fields.

At this time, the FAA and other airworthiness authorities are unable to precisely define or control the HIRF energy level to which the airplane will be exposed in service; therefore, the FAA hereby defines two acceptable interim methods for complying with the requirement for protection of systems that perform functions in which a failure may cause an unsafe condition.

(1) The applicant may demonstrate that the operation and operational capability of the installed electrical and electronic systems that perform functions in which a failure may cause an unsafe condition are not adversely affected when the aircraft is exposed to the external HIRF threat environment defined in the following table:

Frequency: Field strength (volts per meter) | Frequency: Peak | Frequency: Average
10 kHz-100 kHz | 50 | 50
100 kHz-500 kHz | 50 | 50
500 kHz-2 MHz | 50 | 50
2 MHz-30 MHz | 100 | 100
30 MHz-70 MHz | 50 | 50
70 MHz-100 MHz | 50 | 50
100 MHz-200 MHz | 100 | 100
200 MHz-400 MHz | 100 | 100
400 MHz-700 MHz | 700 | 50
700 MHz-1 GHz | 700 | 100
1 GHz-2 GHz | 2000 | 200
2 GHz-4 GHz | 3000 | 200
4 GHz-6 GHz | 3000 | 200
6 GHz-8 GHz | 1000 | 200
8 GHz-12 GHz | 3000 | 300
12 GHz-18 GHz | 2000 | 200
18 GHz-40 GHz | 600 | 200
The field strengths are expressed in terms of peak root-mean-square (rms) values.

or,

(2) The applicant may demonstrate by a system test and analysis that the electrical and electronic systems that perform functions in which a failure may cause an unsafe condition can withstand a minimum threat of 100 volts per meter peak electrical strength, without the benefit of airplane structural shielding, in the frequency range of 10 KHz to 18 GHz. When using this test to show compliance with the HIRF requirements, no credit is given for signal attenuation due to installation.

2. Electronic Engine Control System. The installation items that affect the electronic engine control system must comply with the requirements of § 23.1309(a) through (e) at Amendment 23-41.

Issued in Kansas City, Missouri on May 25, 2000.
James E. Jackson,
Acting Manager, Small Airplane Directorate, Aircraft Certification Service.

[FR Doc. 00-14860 Filed 6-12-00; 8:45 am]

BILLING CODE 4910-13-P